INTERNATIONAL TRADE COMMISSION

[Investigations Nos. 731-TA-639 and 640 (Review)]

Forged Stainless Steel Flanges From India and Taiwan

Determination

On the basis of the record ¹ developed in the subject five-year reviews, the United States International Trade Commission determines, pursuant to section 751(c) of the Tariff Act of 1930 (19 U.S.C. 1675(c)), that revocation of the antidumping duty orders on forged stainless steel flanges from India and Taiwan would be likely to lead to continuation or recurrence of material injury to an industry in the United States within a reasonably foreseeable time.

¹ The record is defined in sec. 207.2(f) of the Commission's Rules of Practice and Procedure (19 C.F.R. § 207.2(f)).

Background

The Commission instituted these reviews on December 1, 1999 (64 FR 67313, December 1, 1999) and determined on March 3, 2000 that it would conduct expedited reviews (65 FR 15009, March 20, 2000). The Commission transmitted its determinations in these reviews to the Secretary of Commerce on July 26, 2000. The views of the Commission are contained in USITC Publication 3329 (July 2000), entitled Forged Stainless Steel Flanges from India and Taiwan: Investigations Nos. 731-TA-639 and 640 (Review).

Issued: July 27, 2000.
By order of the Commission.
Donna R. Koehnke,
Secretary.

[FR Doc. 00-19568 Filed 8-1-00; 8:45 am]

BILLING CODE 7020-02-P